COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List a commodity and a service to be furnished by nonprofit agencies employing persons who are blind or have other severe disabilities, and deletes from the Procurement List commodity and services previously furnished by such agencies.

EFFECTIVE DATE: April 9, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On December 29, 2000, January 5 and 22, 2001, the Committee for Purchase From People Who Are Blind or Severely Disabled published notices (65 F.R. 82974, 66 F.R. 1076 and 6573) of proposed additions to and deletions from the Procurement List:

Additions

After consideration of the material presented to it concerning capability of qualified nonprofit agencies to provide the commodity and service and impact of the additions on the current or most recent contractors, the Committee has determined that the commodity and service listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and service to the Government.

2. The action will not have a severe economic impact on current contractors for the commodity and service.

3. The action will result in authorizing small entities to furnish the commodity and service to the Government.

4. There are no known regulatory alternatives which would accomplish the objectives of the Javits-Wagner-O'Day Act (41 U.S.C. 46—48c) in connection with the commodity and service proposed for addition to the Procurement List.

Accordingly, the following commodity and service are hereby added to the Procurement List:

Commodity

Tape, Duct

5640-00-103-2254

Service

Janitorial/Custodial

Federal Building, 1520 Market Street,

St. Louis, Missouri

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodity and service.

3. The action will result in authorizing small entities to furnish the commodity and service to the Government.

4. There are no known regulatory alternatives which would accomplish the objectives of the Javits-Wagner-O'Day Act (41 U.S.C. 46-48c) in connection with the commodity and service deleted from the Procurement List.

After consideration of the relevant matter presented, the Committee has determined that the commodity and services listed below are no longer suitable for procurement by the Federal Government under 41 U.S.C. 46-48c and 41 CFR 51-2.4. Accordingly, the following commodity and services are hereby deleted from the Procurement List:

Commodity

Kit, Computer Maintenance

7035-01-452-9086;

7045-01-315-0850;

7045-01-450-8599

Services

Grounds Maintenance

Rogue River National Forest, J. Herbert Stone Nursery, 2606 Old Stage Road, Central Point, Oregon, Support Activities for Forestry (TSI), Crane Division, Naval Surface Warfare Center, Crane, Indiana

Louis R. Bartalot,
Deputy Director (Operations).

[FR Doc. 01-5915 Filed 3-8-01; 8:45 am]

BILLING CODE 6353-01-P